DEPARTMENT OF TRANSPORTATION

Federal Aviation Administration

Notice of Release From Federal Grant Assurance Obligations Hayfork Airport, Hayfork, Trinity County, California

AGENCY: Federal Aviation Administration, DOT.

ACTION: Notice of request to release airport land.

SUMMARY: The Federal Aviation Administration (FAA) is considering a proposal and invites public comment on the application for release of approximately 1.33 acres of airport property at Hayfork Airport, Hayfork, California, from all conditions contained in Grant Agreement Assurances since the land is not needed for airport purposes. The property is located approximately 2,400-feet east ad 135-feet south of the Hayfork Airport Runway 25 threshold.

DATES: Comments must be received on or before November 1, 2021.

ADDRESSES: Comments on the request may be mailed or delivered to the FAA at the following address: Ms. Laurie Suttmeier, Manager, San Francisco Airports District Office, Federal Aviation Administration, 1000 Marina Boulevard, Suite 220, Brisbane, California, 94005-1863. In addition, one copy of the comment submitted to the FAA must be mailed or delivered to Mr. Randy Cessna, PE, Associate Engineer 2, Trinity County Department of Transportation, P.O. Box 2490, 31301 State Hwy 3, Weaverville, California 96093-0476.

SUPPLEMENTARY INFORMATION: The County acquired approximately 21.5-acres of land in 2001 for airport approach protection using Airport Improvement Program funds. This parcel is located approximately 2,400-feet east ad 135-feet south of the Hayfork Airport Runway 25 threshold. Recent surveying efforts revealed that an adjacent landowner has built a house on the land due to past poor surveying in the area. The County is selling the 1.33 acres of land with necessary easements and restrictions, so that it would continue to provide approach protection for Hayfork Airport, would correct the legal boundaries of the property and allow Trinity County to tax the property. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 Stat. 61), this notice must be published in the Federal Register 30 days before the DOT Secretary may waive any condition imposed on a federally obligated airport by surplus property conveyance deeds or grant agreements.

Issued in El Segundo, California on September 27, 2021.
Brian Q. Armstrong,
Manager, Safety and Standards Branch, Airports Division, Western-Pacific Region.

[FR Doc. 2021-21327 Filed 9-29-21; 8:45 am]

BILLING CODE 4910-13-P